DEPARTMENT OF HOMELAND SECURITY

Office of the Secretary

Privacy Act of 1974; Consolidation of System of Records

AGENCY: Privacy Office, DHS.

ACTION: Notice to consolidate one Privacy Act system of records notice.

SUMMARY: In accordance with the Privacy Act of 1974, the Department of Homeland Security is giving notice that it proposes to consolidate one Privacy Act system of records notice from its inventory of record systems titled, Department of Homeland Security/Directorate of Science and Technology—.0001 Support Anti-Terrorism by Fostering Effective Technologies Act of 2002, September 26, 2003, into the existing Department of Homeland Security system of records notice titled, Department of Homeland Security/ALL—002 Mailing and Other Lists System, November 25, 2008.

DATES: Effective Date: May 18, 2011.

FOR FURTHER INFORMATION CONTACT: Mary Ellen Callahan, Chief Privacy Officer, Department of Homeland Security, Washington, DC 20528, by telephone (703) 235-0780 or facsimile 1-866-466-5370.

SUPPLEMENTARY INFORMATION: In accordance with the Privacy Act of 1974, 5 U.S.C. 552a, and as part of its ongoing integration and management efforts, the Department of Homeland Security (DHS) is giving notice that it proposes to consolidate one Privacy Act system of records notice (SORN) from its inventory of record systems titled, DHS/Directorate of Science and Technology (S&T)—.0001 Support Anti-Terrorism by Fostering Effective Technologies Act of 2002, (68 FR 55642, September 26, 2003), into the existing DHS SORN titled, DHS/ALL—002 Mailing and Other Lists System, (73 FR 71659, November 25, 2008).

DHS originally created the DHS/S&T—.0001 Support Anti-Terrorism by Fostering Effective Technologies Act of 2002 SORN in September 2003. This system was originally established in order to maintain records on individuals who submit applications for technologies seeking liability protection under provisions of the Support Anti-Terrorism by Fostering Effective Technologies Act. Given that these records are limited to contact information of individuals (business phone number, mailing address, e-mail address), DHS has determined this system can be covered under the DHS/ALL—002 Mailing and Other List Systems SORN.

Consolidating this SORN will have no adverse impact on individuals, but will promote the overall streamlining and management of DHS Privacy Act record systems.

Dated: April 12, 2011.
Mary Ellen Callahan,
Chief Privacy Officer, Department of Homeland Security.

[FR Doc. 2011-9330 Filed 4-15-11; 8:45 am]

BILLING CODE P